DEPARTMENT OF AGRICULTURE

Forest Service

Revised Notice, Draft Environmental Impact Statement, Rosemont Copper Project on the Coronado National Forest, Nogales Ranger District, Pima County, AZ

AGENCY: Forest Service, USDA.

ACTION: Revised Notice of availability and public meetings.

SUMMARY: On October 19, 2011, the USDA Forest Service, Coronado National Forest, published a Notice of Availability of the Rosemont Copper Project Draft Environmental Impact Statement and public meetings and commenting options (76 FR 64893). This revised notice advises the public of changes in the schedule of public meetings being held during the public review and comment period. All other information given in the original notice remains unchanged.

DATES: See SUPPLEMENTARY INFORMATION section for meeting dates.

ADDRESSES: See SUPPLEMENTARY INFORMATION section for meeting addresses.

FOR FURTHER INFORMATION CONTACT: Coronado National Forest, 300 W. Congress St., Tucson, AZ 85701, or by telephone at (520) 388-8300.

SUPPLEMENTARY INFORMATION: Public meeting dates and locations are as follows:

1. December 1, 2011, 5 p.m. to 9 p.m., Corona Foothills Middle School, 16705 S. Houghton Road, Corona de Tucson, AZ 85641.

2. December 7, 2011, 5 p.m. to 9 p.m., Benson High School, 360 S. Patagonia Street, Benson, AZ 85602.

3. December 8, 2011, 12:30 p.m. to 4:30 p.m., Green Valley Recreation-West

Social Center, 1111 Via Arcoiris, Green Valley, AZ 85614.

4. December 10, 2011, 1 p.m. to 5 p.m., Elgin Elementary School, 23 Elgin Road, Elgin, AZ 85611.

5. January 14, 2012, 1 p.m. to 5 p.m., Sahuarita District Auditorium, 350 West Sahuarita Road, Sahuarita, AZ 85649.

If you have questions concerning special meeting needs, contact the Coronado National Forest at (520) 388-8300 or email mailroom_r3_coronado@fs.fed.us prior to the meeting. For more information, visit the project Web site at http://www.RosemontEIS.us.

Authorization: National Environmental Policy Act of 1969 as amended (42 U.S.C. 4321-4346); Council on Environmental Quality Regulations (40 CFR parts 1500-1508); U.S. Department of Agriculture NEPA Policies and Procedures (7 CFR part 1b); Forest Service NEPA Compliance Regulations (36 CFR part 220); Forest Service Notice, Comment, and Appeal Procedures Regulations (36 CFR part 215).

Dated: November 28, 2011.
Jim Upchurch,
Forest Supervisor.

[FR Doc. 2011-31246 Filed 12-5-11; 8:45 am]

BILLING CODE 3410-11-P